DEPARTMENT OF THE TREASURY

Office of Foreign Assets Control

Notice of OFAC Sanctions Action

AGENCY: Office of Foreign Assets Control, Treasury.

ACTION: Notice.

SUMMARY: The Department of the Treasury's Office of Foreign Assets Control (OFAC) is updating the entries of 33 persons on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On September 10, 2019, the President determined certain persons previously blocked under Executive Order 12947 of January 23, 1995, “Prohibiting Transactions With Terrorists Who Threaten To Disrupt the Middle East Peace Process” are blocked under section 1(a)(iv) of Executive Order 13224 of September 23, 2001, as amended by the Executive Order of September 10, 2019, “Modernizing Sanctions to Combat Terrorism”. OFAC is publishing identifying information associated with these 33 persons. The listings for these persons on OFAC's SDN List appear as follows:

Individuals

1. ABBAS, Abu (a.k.a. ZAYDAN, Muhammad); DOB 10 Dec 1948; Director of PALESTINE LIBERATION FRONT—ABU ABBAS FACTION (individual) [SDGT].

2. ABDALLAH, Ramadan (a.k.a. ABDULLAH, Dr. Ramadan; a.k.a. SHALLAH, Dr. Ramadan Abdullah; a.k.a. SHALLAH, Ramadan Abdalla Mohamed), Damascus, Syria; DOB 01 Jan 1958; POB Gaza City, Gaza Strip; Passport 265 216 (Egypt); SSN 589-17-6824 (United States); Secretary General of the PALESTINIAN ISLAMIC JIHAD (individual) [SDGT].

3. ABU MARZOOK, Mousa Mohammed (a.k.a. ABU-MARZUQ, Dr. Musa; a.k.a. ABU-MARZUQ, Sa'id; a.k.a. MARZOOK, Mousa Mohamed Abou; a.k.a. MARZOUK, Musa Abu; a.k.a. MARZUK, Musa Abu; a.k.a. “ABU-'UMAR”); DOB 09 Feb 1951; POB Gaza, Egypt; Passport 92/664 (Egypt); SSN 523-33-8386 (United States); Political Leader in Amman, Jordan and Damascus, Syria for HAMAS (individual) [SDGT].

4. AL RAHMAN, Shaykh Umar Abd; DOB 03 May 1938; POB Egypt; Chief Ideological Figure of ISLAMIC GAMA'AT (individual) [SDGT].

5. AL ZAWAHIRI, Dr. Ayman (a.k.a. AL-ZAWAHIRI, Aiman Muhammad Rabi; a.k.a. AL-ZAWAHIRI, Ayman; a.k.a. SALIM, Ahmad Fuad); DOB 19 Jun 1951; POB Giza, Egypt; Passport 1084010 (Egypt); alt. Passport 19820215; Operational and Military Leader of JIHAD GROUP (individual) [SDGT].

6. AL-MASRI, Abu Hafs (a.k.a. ABDULLAH, Sheikh Taysir; a.k.a. ABU SITTA, Subhi; a.k.a. ATEF, Muhammad; a.k.a. ATIF, Mohamed; a.k.a. ATIF, Muhammad; a.k.a. EL KHABIR, Abu Hafs el Masry; a.k.a. “ABU HAFS”; a.k.a. “TAYSIR”); DOB 1951; alt. DOB 1956; alt. DOB 1944; POB Alexandria, Egypt (individual) [SDGT].

7. AL-ZUMAR, Abbud (a.k.a. ZUMAR, Colonel Abbud), Egypt; POB Egypt; Factional Leader of JIHAD GROUP (individual) [SDGT].

8. AWDA, Abd Al Aziz; DOB 1946; Chief Ideological Figure of PALESTINIAN ISLAMIC JIHAD—SHIQAQI (individual) [SDGT].

9. BIN LADIN, Usama bin Muhammad bin Awad (a.k.a. BIN LADEN, Osama; a.k.a. BIN LADEN, Usama; a.k.a. BIN LADIN, Osama; a.k.a. BIN LADIN, Osama bin Muhammad bin Awad; a.k.a. BIN LADIN, Usama); DOB 30 Jul 1957; alt. DOB 1958; POB Jeddah, Saudi Arabia; alt. POB Yemen (individual) [SDGT].

10. FADLALLAH, Shaykh Muhammad Husayn; DOB 1938; alt. DOB 1936; POB Najf Al Ashraf (Najaf), Iraq; Additional Sanctions Information—Subject to Secondary Sanctions Pursuant to the Hizballah Financial Sanctions Regulations; Leading Ideological Figure of HIZBALLAH (individual) [SDGT].

11. HABBASH, George (a.k.a. HABASH, George); Secretary General of POPULAR FRONT FOR THE LIBERATION OF PALESTINE (individual) [SDGT].

12. HAWATMA, Nayif (a.k.a. HAWATMAH, Nayif; a.k.a. HAWATMEH, Nayif; a.k.a. KHALID, Abu); DOB 1933; Secretary General of DEMOCRATIC FRONT FOR THE LIBERATION OF PALESTINE—HAWATMEH FACTION (individual) [SDGT].

13. ISLAMBOULI, Mohammad Shawqi; DOB 15 Jan 1955; POB Egypt; Passport 304555 (Egypt); Military Leader of ISLAMIC GAMA'AT (individual) [SDGT].

14. JABRIL, Ahmad (a.k.a. JIBRIL, Ahmad); DOB 1938; POB Ramleh, Israel; Secretary General of POPULAR FRONT FOR THE LIBERATION OF PALESTINE—GENERAL COMMAND (individual) [SDGT].

15. MUSA, Rifa'i Ahmad Taha (a.k.a. 'ABD ALLAH, 'Issam 'Ali Muhammad; a.k.a. ABD-AL-WAHAB, Abd-al-Hai Ahmad; a.k.a. AL-KAMEL, Salah 'Ali; a.k.a. TAHA MUSA, Rifa'i Ahmad; a.k.a. THABIT 'IZ; a.k.a. “'ABD-AL-'IZ”; a.k.a. “ABU YASIR”); DOB 24 Jun 1954; POB Egypt; Passport 83860 (Sudan); alt. Passport 30455 (Egypt); alt. Passport 1046403 (Egypt) (individual) [SDGT].

16. NAJI, Talal Muhammad Rashid; DOB 1930; POB Al Nasiria, Palestine; Principal Deputy of POPULAR FRONT FOR THE LIBERATION OF PALESTINE—GENERAL COMMAND (individual) [SDGT].

17. NASRALLAH, Hasan (a.k.a. NASRALLAH, Hasan Abd-al-Karim), Lebanon; DOB 31 Aug 1960; alt. DOB 31 Aug 1953; alt. DOB 31 Aug 1955; alt. DOB 31 Aug 1958; POB Al Basuriyah, Lebanon; Additional Sanctions Information—Subject to Secondary Sanctions Pursuant to the Hizballah Financial Sanctions Regulations; Gender Male; Passport 042833 (Lebanon); Secretary General of Hizballah (individual) [SDGT] [SYRIA] (Linked To: HIZBALLAH).

18. TUFAYLI, Subhi; DOB 1947; POB Biqa Valley, Lebanon; Former Secretary General and Current Senior Figure of HIZBALLAH (individual) [SDGT].

19. YASSIN, Sheik Ahmed Ismail, Gaza Strip, undetermined; DOB 1938; POB al-Jawrah, al-Majdal District, Gaza (individual) [SDGT].

Entities

20. AL QA'IDA (a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. THE BASE; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT].

21. AL-AQSA ISLAMIC BANK (a.k.a. AL-AQSA AL-ISLAMI BANK), P.O. Box 3753, al-Beireh, West Bank; Ramallah II 970, West Bank [SDGT].

22. AL-AQSA MARTYRS BRIGADE (a.k.a. AL-AQSA MARTYRS BATTALION) [FTO] [SDGT].

23. BEIT EL-MAL HOLDINGS (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. PALESTINIAN ARAB BEIT EL MAL CORPORATION, LTD.), P.O. Box 662, Ramallah, West Bank [SDGT].

24. DEMOCRATIC FRONT FOR THE LIBERATION OF PALESTINE—HAWATMEH FACTION (a.k.a. DEMOCRATIC FRONT FOR THE LIBERATION OF PALESTINE; a.k.a. DFLP; a.k.a. RED STAR BATTALIONS; a.k.a. RED STAR FORCES) [SDGT].

25. GAMA'A AL-ISLAMIYYA (a.k.a. AL-GAMA'AT; a.k.a. EGYPTIAN AL-GAMA'AT AL-ISLAMIYYA; a.k.a. ISLAMIC GAMA'AT; a.k.a. ISLAMIC GROUP; a.k.a. “GI”; a.k.a. “IG”) [FTO] [SDGT].

26. HAMAS (a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [FTO] [SDGT].

27. HIZBALLAH (a.k.a. ANSAR ALLAH; a.k.a. EXTERNAL SECURITY ORGANIZATION OF HEZBOLLAH; a.k.a. FOLLOWERS OF THE PROPHET MUHAMMED; a.k.a. HIZBALLAH ESO; a.k.a. HIZBALLAH INTERNATIONAL; a.k.a. ISLAMIC JIHAD; a.k.a. ISLAMIC JIHAD FOR THE LIBERATION OF PALESTINE; a.k.a. ISLAMIC JIHAD ORGANIZATION; a.k.a. LEBANESE HEZBOLLAH; a.k.a. LEBANESE HIZBALLAH; a.k.a. ORGANIZATION OF RIGHT AGAINST WRONG; a.k.a. ORGANIZATION OF THE OPPRESSED ON EARTH; a.k.a. PARTY OF GOD; a.k.a. REVOLUTIONARY JUSTICE ORGANIZATION; a.k.a. “ESO”; a.k.a. “EXTERNAL SECURITY ORGANIZATION”; a.k.a. “EXTERNAL SERVICES ORGANIZATION”; a.k.a. “FOREIGN ACTION UNIT”; a.k.a. “FOREIGN RELATIONS DEPARTMENT”; a.k.a. “FRD”; a.k.a. “LH”; a.k.a. “SPECIAL OPERATIONS BRANCH”); Additional Sanctions Information—Subject to Secondary Sanctions Pursuant to the Hizballah Financial Sanctions Regulations [FTO] [SDGT] [SYRIA].

28. HOLY LAND FOUNDATION FOR RELIEF AND DEVELOPMENT (f.k.a. OCCUPIED LAND FUND), 525 International Parkway, Suite 509, Richardson, TX 75081, United States; P.O. Box 832390, Richardson, TX 75083, United States; 9250 S. Harlem Avenue, Bridgeview, IL, United States; 345 E. Railway Avenue, Paterson, NJ 07503, United States; Hebron, West Bank; Gaza Strip, undetermined; 12798 Rancho Penasquitos Blvd., Suite F, San Diego, CA 92128, United States; Jenin, West Bank; Shurta Street, 'Amira al-Ramuna, 4th Floor, Ramallah, West Bank; US FEIN 95-4227517; and other locations within the United States [SDGT].

29. KAHANE CHAI (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION; a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR; a.k.a. “CARD”) [FTO] [SDGT].

30. PALESTINE ISLAMIC JIHAD—SHAQAQI FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [FTO] [SDGT].

31. PALESTINE LIBERATION FRONT—ABU ABBAS FACTION (a.k.a. PALESTINE LIBERATION FRONT; a.k.a. PLF; a.k.a. PLF-ABU ABBAS) [FTO] [SDGT].

32. POPULAR FRONT FOR THE LIBERATION OF PALESTINE (a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [FTO] [SDGT].

33. POPULAR FRONT FOR THE LIBERATION OF PALESTINE—GENERAL COMMAND (a.k.a. PFLP-GC) [FTO] [SDGT].

Dated: September 10, 2019.
Andrea Gacki,
Director, Office of Foreign Assets Control.

[FR Doc. 2019-20002 Filed 9-16-19; 8:45 am]

BILLING CODE 4810-AL-P